DEPARTMENT OF TRANSPORTATION

Federal Aviation Administration

14 CFR Part 39

[Docket No. FAA-2015-0084; Directorate Identifier 2014-NM-181-AD]

RIN 2120-AA64

Airworthiness Directives; Airbus Airplanes

AGENCY: Federal Aviation Administration (FAA), DOT.

ACTION: Supplemental notice of proposed rulemaking (SNPRM); reopening of comment period.

SUMMARY: We are revising an earlier proposed airworthiness directive (AD) for certain Airbus Model A300 B4-2C, B4-103, and B4-203 airplanes; and Model A300 B4-600 and A300 B4-600R series airplanes. This action revises the NPRM by adding additional inspections for cracking, and related investigative and corrective actions if necessary, and adding airplanes to the applicability. We are proposing this SNPRM to detect and correct cracking on the frame (FR) 40 forward fittings, which could result in reduced structural integrity of the airplane. Since these actions impose an additional burden over those proposed in the NPRM, we are reopening the comment period to allow the public the chance to comment on these proposed changes.

DATES: The comment period for the NPRM published in the Federal Register on February 13, 2015 (80 FR 7992) is reopened.

We must receive comments on this SNPRM by December 27, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this SNPRM, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-0084; or in person at the Docket Management Facility between 9 a.m. and 5 p.m., Monday through Friday, except Federal holidays. The AD docket contains this proposed AD, the regulatory evaluation, any comments received, and other information. The street address for the Docket Office (telephone: 800-647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Comments Invited

We invite you to send any written relevant data, views, or arguments about this proposed AD. Send your comments to an address listed under the ADDRESSES section. Include “Docket No. FAA-2015-0084; Directorate Identifier 2014-NM-181-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We issued a notice of proposed rulemaking (NPRM) to amend 14 CFR part 39 by adding an AD that would apply to certain Airbus Model A300 B4-2C, B4-103, and B4-203 airplanes; and Model A300 B4-600 and A300 B4-600R series airplanes. The NPRM published in the Federal Register on February 13, 2015 (80 FR 7992) (“the NPRM”). The NPRM was prompted by reports indicating that, on airplanes that received a certain repair following crack findings, cracks can re-initiate. The NPRM proposed to require repetitive inspections for cracking of the FR 40 forward fittings for airplanes previously repaired.

Actions Since the NPRM Was Issued

Since we issued the NPRM, we have determined that additional inspections for cracking are necessary and that additional airplanes are affected by the identified unsafe condition.

The European Aviation Safety Agency (EASA), which is the Technical Agent for the Member States of the European Union, has issued EASA Airworthiness Directive 2015-0232R1, dated December 16, 2015 (referred to after this as the Mandatory Continuing Airworthiness Information, or “the MCAI”), to correct an unsafe condition for certain Airbus Model A300 series airplanes; and Model A300 B4-600, B4-600R and F4-600R series airplanes, and Model A300 C4-605R Variant F airplanes (collectively called Model A300-600 series airplanes). The MCAI states:

Cracks were found on the lower outboard radius of the centre wing frame 40 forward fitting on in-service aeroplanes.

This condition, if not detected and corrected, could lead to reduced structural integrity of the aeroplane.

To address this unsafe condition, Airbus issued several inspection Service Bulletins (SB) and repair instructions. Consequently, EASA issued AD 2009-0094, which was later superseded by EASA AD 2011-0163 [which corresponds to FAA AD 2012-25-06, Amendment 39-17287 (77 FR 75833, December 26, 2012) (“AD 2012-25-06”)] and [EASA] AD 2014-0199 [which corresponds to the FAA NPRM], to require repetitive inspections and corrective actions on the affected areas.

Since those [EASA] ADs were issued, additional in-service findings induced Airbus to do a new fatigue analysis, using a detailed Finite Element Model study, which resulted in defining new inspection methods. Prompted by these results, Airbus issued SB A300-57-0261, SB A300-57-6117 and SB A300-57-9034 to introduce these inspections. These new inspection SBs supersede and render obsolete inspection SB A300-53-0268 and SB A300-57-6052 and the All Operators Transmissions (AOT) A300-53A0391, AOT A300-57A6111, AOT A300-53W002-14 and AOT A300-57W003-14.

For the reasons described above, EASA issued AD 2015-0232, superseding [Direction Générale de l'Aviation Civile] DGAC France AD 1998-038-010(B) R1 [which corresponds to FAA AD 98-25-07, Amendment 39-10933 (63 FR 68167, December 10, 1998) (“AD 98-25-07”)] and [DGAC France] AD 2003-189(B), and EASA AD 2011-0163 and [EASA] AD 2014-0199, to require the new inspections of the affected areas within new thresholds and intervals.

This [EASA] AD is revised to clarify the compliance time(s), introducing a Note after paragraph (1), and to alleviate the reporting requirements of paragraph (3).

Required actions include repetitive rototest, ultrasonic, high frequency eddy current, special detailed, and liquid penetrant inspections, as applicable, of the center wing FR 40 lower outboard radius for cracking, and related investigative and corrective actions if necessary. Related investigative actions include rototest, ultrasonic, high frequency eddy current, and liquid penetrant inspections following repairs of cracking.

Corrective actions include oversizing fastener holes and installing new fasteners, doing spotfacing, doing crack-stop holes, and repairing cracking.

The compliance times vary depending on airplane configuration. The initial compliance times range from 3 months to 56,300 flight cycles or 76,000 flight hours (whichever occurs first) after accomplishing certain actions. Repetitive intervals range from 1,400 flight cycles or 3,000 flight hours (whichever occurs first) to 37,500 flight cycles or 50,600 flight hours (whichever occurs first).

You may examine the MCAI in the AD docket on the Internet at http://www.regulations.gov by searching for and locating Docket No. FAA-2015-0084.

Related Service Information Under 1 CFR Part 51

Airbus has issued Service Bulletin A300-57-6117, dated May 28, 2015; and Service Bulletin A300-57-0261, dated June 11, 2015. The service information describes procedures for repetitive ultrasonic inspections, rototest inspections, high frequency eddy current inspections, special detailed inspections, and liquid penetrant inspections, and related investigative and corrective actions. These documents are distinct since they apply to different airplane models. This service information is reasonably available because the interested parties have access to it through their normal course of business or by the means identified in the ADDRESSES section.

Comments

We gave the public the opportunity to participate in developing this proposed AD. We considered the comment received.

Request To Suspend Activities on the NPRM Pending New Service Information

United Parcel Service (UPS) requested that we suspend activities on the NPRM pending the issuance of new service information. UPS stated that the new service information will address airplanes that were not identified in the NPRM and will include new inspections.

We acknowledge the commenter's request. We have reviewed the new service information (Airbus Service Bulletin A300-57-6117, dated May 28, 2015; and Airbus Service Bulletin A300-57-0261, dated June 11, 2015) and have revised this SNPRM accordingly. We have updated paragraph (c) of this proposed AD to include all affected airplanes, and we have revised paragraphs (g) and (h) of this proposed AD to refer to the new service information.

FAA's Determination and Requirements of This SNPRM

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Certain changes described above expand the scope of the NPRM. As a result, we have determined that it is necessary to reopen the comment period to provide additional opportunity for the public to comment on this SNPRM.

Costs of Compliance

We estimate that this SNPRM affects 26 airplanes of U.S. registry. We estimate the following costs to comply with this SNPRM.

Estimated Costs
Action | Labor cost | Cost per product | Cost on U.S. operators
Inspection | Up to 91 work-hours × $85 per hour = $7,735 per inspection cycle | Up to $7,735 per inspection cycle | Up to $201,110 per inspection cycle.
Reporting | 1 work-hour × $85 per hour = $85 | $85 | $2,210

Paperwork Reduction Act

A federal agency may not conduct or sponsor, and a person is not required to respond to, nor shall a person be subject to penalty for failure to comply with a collection of information subject to the requirements of the Paperwork Reduction Act unless that collection of information displays a current valid OMB control number. The control number for the collection of information required by this proposed AD is 2120-0056. The paperwork cost associated with this proposed AD has been detailed in the Costs of Compliance section of this document and includes time for reviewing instructions, as well as completing and reviewing the collection of information. Therefore, all reporting associated with this proposed AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2015-0084; Directorate Identifier 2014-NM-181-AD.

(a) Comments Due Date

We must receive comments by December 27, 2016.

(b) Affected ADs

This AD affects AD 98-25-07, Amendment 39-10933 (63 FR 68167, December 10, 1998) (“AD 98-25-07”); and AD 2012-25-06, Amendment 39-17287 (77 FR 75833, December 26, 2012) (“AD 2012-25-06”).

(c) Applicability

This AD applies to the Airbus airplanes, certificated in any category, identified in paragraphs (c)(1) through (c)(5) of this AD, except airplanes on which Airbus Modification 10221 has been embodied in production.

(1) Model A300 B2-1A, B2-1C, B2K-3C, B2-203, B4-2C, B4-103, and B4-203 airplanes.

(2) Model A300 B4-601, B4-603, B4-620, and B4-622 airplanes.

(3) Model A300 B4-605R and B4-622R airplanes.

(4) Model A300 F4-605R and F4-622R airplanes.

(5) Model A300 C4-605R Variant F airplanes.

(d) Subject

Air Transport Association (ATA) of America Code 57, Wings.

(e) Reason

This AD was prompted by reports of cracks on the lower outboard radius of the center wing frame (FR) 40 forward fitting. We are issuing this AD to detect and correct cracking on the FR 40 forward fittings, which could result in reduced structural integrity of the airplane.

(f) Compliance

Comply with this AD within the compliance times specified, unless already done.

(g) Repetitive Inspections

Except as provided by paragraph (i)(1) of this AD, at the applicable times specified in paragraph E.(2), “Compliance,” of Airbus Service Bulletin A300-57-0261, dated June 11, 2015; or Airbus Service Bulletin A300-57-6117, dated May 28, 2015; accomplish rototest, ultrasonic, high frequency eddy current, special detailed, and liquid penetrant inspections, as applicable, of the center wing FR 40 lower outboard radius for cracking, and do all applicable related investigative actions, in accordance with the Accomplishment Instructions of Airbus Service Bulletin A300-57-0261, dated June 11, 2015; or Airbus Service Bulletin A300-57-6117, dated May 28, 2015; as applicable. Do all applicable related investigative actions before further flight. Repeat the inspections thereafter at the applicable times specified in paragraph E.(2), “Compliance,” of Airbus Service Bulletin A300-57-0261, dated June 11, 2015; or Airbus Service Bulletin A300-57-6117, dated May 28, 2015.

(h) Corrective Actions

If, during any inspection required by paragraph (g) of this AD, any crack is found, before next flight, accomplish the applicable corrective actions, in accordance with the Accomplishment Instructions of Airbus Service Bulletin A300-57-0261, dated June 11, 2015; or Airbus Service Bulletin A300-57-6117, dated May 28, 2015; as applicable; except as required by paragraph (i)(2) of this AD.

(i) Service Information Exception

(1) Where the service information specified in paragraph (g) of this AD specifies a compliance time “from this service bulletin issuance date,” this AD requires compliance within the specified compliance time after the effective date of this AD.

(2) Where the service information specified in paragraph (h) of this AD specifies to contact Airbus for certain conditions, before further flight, repair using a method approved by the Manager, International Branch, ANM-116, Transport Airplane Directorate, FAA; or the European Aviation Safety Agency (EASA); or Airbus' EASA Design Organization Approval (DOA).

(j) No Terminating Action for This AD

Accomplishing a corrective action required by paragraph (h) of this AD, or accomplishing a preventative action specified in Airbus Service Bulletin A300-57-0260 or A300-57-6116, as applicable, does not terminate the repetitive inspections required by paragraph (g) of this AD.

(k) Terminating Action for Certain Requirements of Other ADs

(1) Accomplishing the actions required by paragraph (g) of this AD terminates the actions required by paragraphs (a) and (b) of AD 98-25-07.

(2) Accomplishing the actions required by paragraph (g) of this AD terminates the actions required by paragraphs (i) and (j) of AD 2012-25-06.

(l) Reporting Requirements

Within 60 days after any inspection required by paragraph (g) of this AD, or within 60 days after the effective date of this AD, whichever occurs later, report any findings, positive or negative, to Airbus Service Bulletin Reporting Online Application on Airbus World (https://w3.airbus.com/).

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or the EASA; or Airbus's EASA DOA. If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(n) Related Information

(1) Refer to Mandatory Continuing Airworthiness Information (MCAI) EASA Airworthiness Directive 2015-0232R1, dated December 16, 2015, for related information. This MCAI may be found in the AD docket on the Internet at http://www.regulations.gov by searching for and locating Docket No. FAA-2015-0084.

(2) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on October 31, 2016.
Michael Kaszycki,
Acting Manager, Transport Airplane Directorate, Aircraft Certification Service.

[FR Doc. 2016-26813 Filed 11-9-16; 8:45 am]

BILLING CODE 4910-13-P